DEPARTMENT OF HEALTH AND HUMAN SERVICES

National Institutes of Health

Submission for OMB Review; Comment Request; Enhancing Access and Measuring the Effectiveness of HIV/AIDS Information Methods

SUMMARY: Under the provisions of Section 3507(a)(1)(D) of the Paperwork Reduction Act of 1995, the National Library of Medicine (NLM), the National Institutes of Health (NIH) has submitted to the Office of Management and Budget (OMB) a request to review and approve the information collection listed below. This proposed information collection was previously published in the Federal Register on May 5, 2000, in Volume 65, No. 88, page 26220 and allowed 60 days for public comment. No public comments were received. The purpose of this notice is to allow an additional 30 days for public comment. The National Library of Medicine may not conduct or sponsor, and the respondent is not required to respond to, an information collection that has been extended, revised, or implemented on or after October 1, 1995, unless it displays a currently valid OMB control number.

Proposed Collection

Title: Enhancing Access and Measuring the Effectiveness of HIV/AIDS Information Methods. Type of Information Collection Request: New. Need and Use of Information Collection: This study will assess the effectiveness of three information sources within the African American Community in disseminating HIV prevention information. HIV infection and the dissemination of prevention information is a major public health task in North Florida. Three types of African American communities from Gadsden, Leon, and Duval counties are selected as the sites of this study. This will include communities with rural, mixed rural/urban, and urban areas represented for assessing possible differences in health information channel preferences. This study will add to the body of knowledge concerning HIV information dissemination to African American communities in two ways: first, by assessing whether there are differences in the preferred health information channels of those living in rural, mixed, and urban areas; and secondly, by assessing three information dissemination channels for communicating HIV issues to African American communities. The three information channels of concern in this study are community newsletters, entertainment education, and church ministries. In the first year of the project, a brief survey will be conducted before and after distribution of the community newsletter to assess how the community obtains information about the prevention of HIV infection and transmission, their preferred sources of health information, and the effectiveness of the newsletter. The initial data collected will be used to establish a baseline for the project against which the subsequent project data can be evaluated.

Frequency of Response: On occasion. Affected Public: Individuals or households. Type of Respondents: Residents living in Duval, Gadsden and Leon counties, Florida. The annual reporting burden is as follows: Estimated Number of Respondents: 360; Estimated Number of Responses per Respondent: 1; Average Burden Hours Per Response: .334 and Estimated Total Annual Burden Hours Requested: 120. The annualized cost to respondents is estimated at: $844.80. There are no Capital Costs to report. There are no Operating or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information; (3) Ways to enhance the quality, utility, and clarity of the information to be collected; and (4) Ways to minimize the burden of the collection of information on those who are to respond, including the use of appropriate automated, electronic, mechanical, or other technological collection techniques or other forms of information technology.

Direct Comments to OMB

Written comments and/or suggestions regarding the item(s) in this notice, especially regarding the estimated public burden and associated response time, should be directed to the: Office of Management and Budget, Office of Regulatory Affairs, New Executive Office Building, Room 10235, Washington, DC 20503, Attention: Desk Officer for NIH. To request more information on the proposed collection of information contact: Cynthia B. Love, National Library of Medicine, Building 38A, Room 3N-311C, 8600 Rockville Pike, Bethesda, MD 20894, or call non-toll free number (301) 496-5306. You may also e-mail your request to: cindy_love@nlm.nih.gov.

Comments Due Date

Comments regarding this information collection are best assured of having their full effect if received on or before June 14, 2001.

Dated: May 7, 2001.
Donald C. Poppke,
Associate Director for Administrative Management, National Library of Medicine.

[FR Doc. 01-12123 Filed 5-14-01; 8:45 am]

BILLING CODE 4140-01-M